SECURITIES AND EXCHANGE COMMISSION

[OMB Control No. 3235-0713]

Agency Information Collection Activities; Proposed Collection; Comment Request; Extension: Rule 15Fi-2

Upon Written Request, Copies Available From: Securities and Exchange Commission, Office of FOIA Services, 100 F Street NE, Washington, DC 20549-2736

Notice is hereby given that, pursuant to the Paperwork Reduction Act of 1995 (44 U.S.C. § 3501 et seq.), the Securities and Exchange Commission (SEC or “Commission”) is soliciting comments on the proposed collection of information.

Rule 15Fi-2 requires security-based swaps (“SBS”) dealers and major SBS participants (collectively, “SBS Entities”) to provide to their counterparties a trade acknowledgment, to provide prompt verification of the terms provided in a trade acknowledgment of transactions from other SBS Entities, and to have written policies and procedures that are reasonably designed to obtain prompt verification of the terms provided in a trade acknowledgment. The Rule promotes the efficient operation of the SBS market and facilitate market participants' management of their SBS-related risk.

The Commission estimates that approximately 48 entities fit within the definition of SBS dealer, and zero entities fit within the definition of major SBS participant. Thus, we expect that approximately 48 entities will be required to register with the Commission as SBS Entities and will be subject to the trade acknowledgment provision and verification requirements of Rule 15Fi-2. The total estimated annual time burden of Rule 15Fi-2 is 22,848 hours.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by February 17, 2026. There will be a second opportunity to comment on this SEC request following the Federal Register publishing a 30-Day Submission Notice.

Dated: December 12, 2025.
Sherry R. Haywood,
Assistant Secretary.

[FR Doc. 2025-22950 Filed 12-15-25; 8:45 am]

BILLING CODE 8011-01-P